DEPARTMENT OF TRANSPORTATION

Federal Aviation Administration

14 CFR Part 39

[Docket No. 97-CE-114-AD; Amendment 39-11641; AD 2000-06-01]

RIN 2120-AA64

Airworthiness Directives; Cessna Aircraft Company 150, 152, 172, 177, 180, 182, 185, 188, 206, 207, 210, and 337 Series Airplanes

AGENCY: Federal Aviation Administration, DOT.

ACTION: Final rule.

SUMMARY: This amendment adopts a new airworthiness directive (AD) that applies to Cessna Aircraft Company (Cessna) 150, 152, 172, 177, 180, 182, 185, 188, 206, 207, 210, and 337 series airplanes. This AD requires measuring the visible length of standpipe (tube) in the top assembly of the fuel strainer assembly for the correct length, and replacing any fuel strainer assembly that does not have the correct length of standpipe. This AD is the result of reports that the fuel strainer assemblies on the affected airplanes were manufactured with the fuel standpipes incorrectly installed in the assembly housing top. The actions specified by this AD are intended to prevent foreign material from entering the fuel system and engine, which could result in loss of engine power or complete engine stoppage during flight.

DATES: Effective May 5, 2000.

The incorporation by reference of certain publications listed in the regulations is approved by the Director of the Federal Register as of May 5, 2000.

ADDRESSES: Service information that applies to this AD may be obtained from the Cessna Aircraft Company, P.O. Box 7706, Wichita, Kansas 67277; telephone: (316) 941-7550; facsimile: (316) 942-9008. This information may also be examined at the Federal Aviation Administration (FAA), Central Region, Office of the Regional Counsel, Attention: Rules Docket No. 97-CE-114-AD, Room 506, 901 Locust, Kansas City, Missouri 64106; or at the Office of the Federal Register, 800 North Capitol Street, NW, suite 700, Washington, DC.

FOR FURTHER INFORMATION CONTACT: Paul O. Pendleton, Aerospace Engineer, FAA, Wichita Aircraft Certification Office, 1801 Airport Road, Room 100, Wichita, Kansas 67209; telephone: (316) 946-4143; facsimile: (316) 946-4407.

SUPPLEMENTARY INFORMATION:

Events Leading to the Issuance of This AD

A proposal to amend part 39 of the Federal Aviation Regulations (14 CFR part 39) to include an AD that would apply to Cessna 150, 152, 172, 177, 180, 182, 185, 188, 206, 207, 210, and 337 series airplanes was published in the Federal Register as a notice of proposed rulemaking (NPRM) on July 22, 1998 (63 FR 39244). The NPRM proposed to require measuring the fuel strainer assembly standpipe, and replacing any fuel strainer assembly that does not have a standpipe of the correct measurement. Accomplishment of the proposed action as specified in the NPRM would be required in accordance with Cessna Service Bulletins SEB97-9, dated November 17, 1997, and MEB97-12, dated November 17, 1997.

The NPRM was the result of reports that the fuel strainer assemblies on the affected airplanes were manufactured with the fuel standpipes incorrectly installed in the assembly housing top.

Interested persons have been afforded an opportunity to participate in the making of this amendment. Due consideration has been given to the comments received from six different entities.

Comment Disposition

All six commenters request that the FAA include a provision for the owners/operators of the affected airplanes to check the logbook to determine whether one of the affected fuel strainer assemblies is installed. This would reduce the impact of the AD by not requiring operators who do not have the affected fuel strainer assemblies installed to have their airplanes unnecessarily inspected.

The FAA concurs. Cessna part number (P/N) 0756005-2 top assemblies, Cessna P/N 0756005-8 fuel strainer assemblies, or Cessna P/N 0756005-9 fuel strainer assemblies, that were shipped between December 12, 1996, and September 5, 1997, may have been manufactured with an internal tube installed to a depth less than specified. These parts may become loose and dislodge from the strainer top assembly. If the owner/operator can make the determination by checking the logbooks that one of these parts is not installed or was installed prior to December 12, 1996, the measurement and possible replacement requirements of paragraphs (a) and (b) of this AD would not apply and the owner/operator must make an entry into the aircraft records showing compliance with this portion of the AD in accordance with section 43.9 of the Federal Aviation Regulations (14 CFR 43.9). This final rule has been changed to reflect this provision.

The FAA's Determination

After careful review of all available information related to the subject presented above including the comments discussed, the FAA has determined that air safety and the public interest require the adoption of the rule as proposed except for the addition of the provision to check the logbooks and minor editorial corrections. The FAA has determined that this addition and the minor corrections will not change the meaning of the AD and will not add any additional burden upon the public than was already proposed.

Cost Impact

The FAA estimates that 50,000 airplanes in the U.S. registry will be affected by this AD.

The measurement required by this AD is estimated to take 1 workhour per airplane with the average labor rate at approximately $60 an hour. The total cost impact to accomplish the inspection will be $3,000,000 for the U.S. fleet, or $60 per airplane.

The replacement of the fuel strainer assembly is estimated to take 2 workhours per airplane with an average labor rate of approximately $60 per hour. Approximately 300 of the affected parts are thought to have been manufactured. The cost of parts is approximately $180 per airplane. Therefore, based on these figures, the total cost impact to accomplish the replacement, if applicable, on U.S. operators is estimated to be $90,000, or $300 per airplane.

Regulatory Impact

The regulations adopted herein will not have a substantial direct effect on the States, on the relationship between the national government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive (AD) to read as follows:

2000-06-01 Cessna Aircraft Company: Amendment 39-11641; Docket No. 97-CE-114-AD.

Applicability: All serial numbers of the following airplane models, certificated in any category, including those manufactured in France that have a capital “F” or “FR” prefix on the model number: Models 150F, 150G, 150H, 150J, 150K, 150L, 150M, A150K, A150L, A150M, A-150L, A-A150L, F150F, F150G, F150H, F150J, F150K, F150L, F150M, FA150K, FA150L, FA150M, FRA150L, FRA150M, 152, A152, F152, FA152, 172F, 172G, 172H, 172I, 172K, 172L, 172M, 172N, 172P, 172Q, R172E (T41), R172F (T41), R172G (T41), R172H (T41), R172J, R172K, 172RG, F172F, F172G, F172H, F172K, F172L, F172M, F172N, F172P, FR172E, FR172F, FR172G, FR172H, FR172J, FR172K, 177, 177A, 177B, 177RG, F177RG, 180H, 180J, 180K, 182H, 182J, 182K, 182L, 182M, 182N, 182P, 182Q, 182R/T182, 182R, R182, R182/TR182, A182J, A182K, A182L, A182N, F182P, F182Q, FR182, 185D, 185E, A185E, A185F, 188, A188, 188A, A188A, 188B, A188B, T188C, A-A188B, U206, U206A, TU206A, U206B/TU206B, U206C/TU206C, U206D/TU206D, U206E/TU206E, U206F/TU206F, U206G/TU206G, P206, P206A, TP206A, P206B/TP206B, P206C/TP206C, P206D/TP206D, P206E/TP206E, 207/T207, 207A/T207A, 210E, 210F, 210G, 210H, 210J, 210K/T210K, 210L/T210L, 210M/T210M, 210N/T210N, T210F, T210G, T210H, T210J, P210N, 337, 337A, 337B/T337B, M337B, 337C/T337C, 337D/T337D, 337E/T337E, 337F, T337F, 337G, 337H/T337H, T337H-SP, T337G, P337H, F337E/FT337E, F337F/FT337F, F337G, F337H, FTB337, FT337GP, and FT337HP.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (f) of this AD. The request should include an assessment of the effect of the modification, alteration, or repair on the unsafe condition addressed by this AD; and, if the unsafe condition has not been eliminated, the request should include specific proposed actions to address it.

Compliance: Required as indicated in the body of this AD.

To prevent foreign material from entering the fuel system and engine, which could result in loss of engine power or complete engine stoppage during flight, accomplish the following:

Note 2: This AD allows the aircraft owner or pilot to check the maintenance records to determine whether a Cessna part number (P/N) 0756005-2 top assembly, Cessna P/N 0756005-8 fuel strainer assembly, or a Cessna P/N 0756005-9 fuel strainer assembly was installed after December 12, 1996. Those parts that were shipped between December 12, 1996, and September 5, 1997, may have been manufactured with an internal tube installed to a depth less than specified and may become loose and dislodge from the strainer top assembly. See paragraph (c) of this AD for authorization.

(a) Within the next 12 calendar months after the effective date of this AD, unless already accomplished, measure the standpipe in the fuel strainer assembly (tube in the filter strainer top assembly) for a visible maximum length of 1.68 inches, in accordance with the ACCOMPLISHMENT INSTRUCTIONS section and Detail A in Cessna Single Engine Service Bulletin (SB) No. SEB97-9, dated November 17, 1997; or Cessna Multi-engine SB No. MEB97-12, dated November 17, 1997, whichever is applicable.

(b) If the standpipe does not measure a maximum length of 1.68 inches, prior to further flight, replace the filter strainer top assembly in accordance with the ACCOMPLISHMENT INSTRUCTIONS section in Cessna Single Engine SB No. SEB97-9, dated November 17, 1997; or Cessna Multi-engine SB No. MEB97-12, dated November 17, 1997, whichever is applicable.

(c) The owner/operator holding at least a private pilot certificate as authorized by section 43.7 of the Federal Aviation Regulations (14 CFR 43.7) may check the maintenance records to determine whether a Cessna part number (P/N) 0756005-2 top assembly, Cessna P/N 0756005-8 fuel strainer assembly, or a Cessna P/N 0756005-9 fuel strainer assembly was installed after December 12, 1996. Those parts that were shipped between December 12, 1996, and September 5, 1997, may have been manufactured with an internal tube installed to a depth less than specified and may become loose and dislodge from the strainer top assembly. If, by checking the maintenance records, the owner/operator can make an absolute determination that one of these parts is not installed or was installed prior to December 12, 1996, the requirements of paragraphs (a) and (b) of this AD do not apply. The owner/operator must make an entry into the aircraft records showing compliance with this portion of the AD in accordance with section 43.9 of the Federal Aviation Regulations (14 CFR 43.9).

(d) As of the effective date of this AD, no person may install, on any of the affected Cessna airplanes, a fuel filter assembly where the maximum length of the standpipe does not measure 1.68 inches.

(e) Special flight permits may be issued in accordance with sections 21.197 and 21.199 of the Federal Aviation Regulations (14 CFR 21.197 and 21.199) to operate the airplane to a location where the requirements of this AD can be accomplished.

(f) An alternative method of compliance or adjustment of the compliance time that provides an equivalent level of safety may be approved by the Manager, FAA, Wichita Aircraft Certification Office (ACO), 1801 Airport Road, Room 100, Wichita, Kansas 67209. The request shall be forwarded through an appropriate FAA Maintenance Inspector, who may add comments and then send it to the Manager, Wichita ACO.

Note 3: Information concerning the existence of approved alternative methods of compliance with this

AD, if any, may be obtained from the Wichita ACO.

(g) The measurement and replacement required by this AD shall be done in accordance with Cessna Single Engine Service Bulletin (SB) No. SEB97-9, dated November 17, 1997, or Cessna Multi-engine SB No. MEB97-12, dated November 17, 1997. This incorporation by reference was approved by the Director of the Federal Register in accordance with 5 U.S.C. 552(a) and 1 CFR part 51. Copies may be obtained from the Cessna Aircraft Company, P. O. Box 7706, Wichita, Kansas 67277. Copies may be inspected at the FAA, Central Region, Office of the Regional Counsel, Room 506, 901 Locust, Kansas City, Missouri, or at the Office of the Federal Register, 800 North Capitol Street, NW, suite 700, Washington, DC.

(h) This amendment becomes effective on May 5, 2000.

Issued in Kansas City, Missouri, on March 10, 2000.
Michael Gallagher,
Manager, Small Airplane Directorate, Aircraft Certification Service.

[FR Doc. 00-6615 Filed 3-21-00; 8:45 am]

BILLING CODE 4910-13-P